DEPARTMENT OF ENERGY

Federal Energy Regulatory Commission

[Docket No. ER00-325-002, et al.]

Southern Company Services, Inc., et al.; Electric Rate and Corporate Regulation Filings

April 17, 2001.

Take notice that the following filings have been made with the Commission:

1. Southern Company Services, Inc.

[Docket No. ER00-325-002]

Take notice that on April 12, 2001, Southern Company Services, Inc. (SCS), by and on behalf of Alabama Power Company, Georgia Power Company, Mississippi Power Company, Gulf Power Company and Savannah Electric and Power Company, tendered for filing original tariff sheets under Southern Operating Companies' FERC Rate Schedule No. 66 compliant with the formatting requirements of Commission Order No. 614, as needed to implement revised procedures for recovery of emission allowance costs in the above-stated docket.

Comment date: May 3, 2001, in accordance with Standard Paragraph E at the end of this notice.

2. Southern Company Services, Inc.

[Docket No. ER00-325-003]

Take notice that on April 12, 2001, Southern Company Services, Inc. (SCS), by and on behalf of Alabama Power Company, Georgia Power Company, Mississippi Power Company, Gulf Power Company and Savannah Electric and Power Company, tendered for filing original tariff sheets under Southern Operating Companies' FERC Tariff No. 67 compliant with the formatting requirements of Commission Order No. 614, as needed to implement revised procedures for recovery of emission allowance costs in the above-stated docket.

Comment date: May 3, 2001, in accordance with Standard Paragraph E at the end of this notice.

3. Southern Company Services, Inc.

[Docket No. ER00-325-004]

Take notice that on April 12, 2001, Southern Company Services, Inc. (SCS), by and on behalf of Alabama Power Company, Georgia Power Company, Mississippi Power Company, Gulf Power Company and Savannah Electric and Power Company, tendered for filing original tariff sheets under Southern Operating Companies' FERC Rate Schedule No. 68 compliant with the formatting requirements of Commission Order No. 614, as needed to implement revised procedures for recovery of emission allowance costs in the above-stated docket.

Comment date: May 3, 2001, in accordance with Standard Paragraph E at the end of this notice.

4. Enron Sandhill Limited Partnership

[Docket No. ER01-1166-001]

Take notice that on April 12, 2001, Enron Sandhill Limited Partnership (ESLP) tendered for filing its FERC Electric Tariff, Original Volume No. 1 and accompanying Code of Conduct in compliance with the Commission's March 29, 2001, Order in the above-referenced docket.

Comment date: May 3, 2001, in accordance with Standard Paragraph E at the end of this notice.

5. Alliant Energy Corporate Services, Inc.

[Docket No. ER01-1554-001]

Take notice that on April 12, 2001, Alliant Energy Corporate Services, Inc. tendered for filing an amendment in Docket No. ER01-1554-001 concerning an executed Service Agreement with Axia Energy, LP for Short-Term Firm Point-to-Point Transmission Service.

Alliant Energy Corporate Services, Inc. renews its request for an effective date of March 6, 2001, and accordingly, seeks waiver of the Commission's notice requirements. A copy of this filing has been served upon the Illinois Commerce Commission, the Minnesota Public Utilities Commission, the Iowa Department of Commerce, and the Public Service Commission of Wisconsin.

Comment date: May 3, 2001, in accordance with Standard Paragraph E at the end of this notice.

6. Nevada Power Company

[Docket No. ER01-1589-001]

Take notice that on April 12, 2001, Nevada Power Company (Nevada Power) tendered for filing revised tariff sheets in the above-referenced proceeding. Nevada Power states that these revised tariff sheets are intended to correct inadvertent errors in the March 21, 2001 filing that initiated this docket.

Comment date: May 3, 2001, in accordance with Standard Paragraph E at the end of this notice.

7. Allegheny Energy Service Corporation on behalf of Allegheny Energy Supply Company, LLC

[Docket No. ER01-1778-001]

Take notice that on April 12, 2001, Allegheny Energy Service Corporation on behalf of Allegheny Energy Supply Company, LLC (Allegheny Energy Supply) tendered for filing Service Agreement No. 111 to add one (1) new Customer to the Market Rate Tariff under which Allegheny Energy Supply offers generation services.

Allegheny Energy Supply requests a waiver of notice requirements for an effective date of March 16, 2001 for Allegheny Energy Global Markets, LLC.

Copies of the filing have been provided to the Public Utilities Commission of Ohio, the Pennsylvania Public Utility Commission, the Maryland Public Service Commission, the Virginia State Corporation Commission, the West Virginia Public Service Commission, and all parties of record.

Comment date: May 3, 2001, in accordance with Standard Paragraph E at the end of this notice.

8. Sierra Pacific Power Company

[Docket No. ER01-1779-000]

Take notice that on April 12, 2001, Sierra Pacific Power Company (Sierra) tendered for filing Service Agreements (Service Agreements) with the following entities for Non-Firm and Short-Term Firm Point-to-Point Transmission Service under Sierra Pacific Resources Operating Companies FERC Electric Tariff, First Revised Volume No. 1, Open Access Transmission Tariff (Tariff):

1. BPA, Power Business Line

2. Sempra Energy Resources

3. City of Burbank

4. Axia Energy, LP

Sierra is filing the executed Service Agreements with the Commission in compliance with Sections 13.4 and 14.4 of the Tariff and applicable Commission regulations. Sierra also submitted revised Sheet Nos. 195 and 196 and Original Sheet No. 195A (Attachment E) to the Tariff, which is an updated list of all current subscribers. Sierra requests waiver of the Commission's notice requirements to permit and effective date of April 13, 2001 for the Attachment E, and to allow the Service Agreements to become effective according to their terms.

Copies of this filing were served upon the Public Utilities Commission of Nevada, the Public Utilities Commission of California and all interested parties.

Comment date: May 3, 2001, in accordance with Standard Paragraph E at the end of this notice.

9. Ameren Services Company

[Docket No. ER01-1780-000]

Take notice that on April 12, 2001, Ameren Services Company (ASC) tendered for filing an Illinois Retail Network Integration Transmission Service Agreement and Illinois Retail Network Operating Agreement between ASC and Edgar Electric Cooperative Association d/b/a EnerStar Power Corp. ASC asserts that the purpose of the Agreement is to permit ASC to provide transmission service to unbundled Illinois retail customers of EnerStar Power Corp. pursuant to Ameren's Open Access Tariff.

Comment date: May 3, 2001, in accordance with Standard Paragraph E at the end of this notice.

10. American Electric Power Service Corporation

[Docket No. ER01-1781-000]

Take notice that on April 12, 2001, Indiana Michigan Power Company tendered for filing a letter agreement with Mirant Sugar Creek, LLC.

AEP requests an effective date of June 11, 2001. Copies of Indiana Michigan Power Company's filing have been served upon the Indiana Public Service Commission and Michigan Public Service Commission.

Comment date: May 3, 2001, in accordance with Standard Paragraph E at the end of this notice.

11. American Electric Power Service Corporation

[Docket No. ER01-1783-000]

Take notice that on April 12, 2001, Ohio Power Company tendered for filing a letter agreement with Rolling Hills Generating, LLC.

AEP requests an effective date of June 11, 2001. Copies of Ohio Power Company's filing have been served upon the Public Utilities Commission of Ohio.

Comment date: May 3, 2001, in accordance with Standard Paragraph E at the end of this notice.

12. Fountain Valley Power, L.L.C.

[Docket No. ER01-1784-000]

Take notice that on April 12, 2001, Fountain Valley Power, LLC, tendered for filing an initial rate schedule to sell power at market-based rates and a long-term service agreement with Public Service Company of Colorado under said rate schedule.

Comment date: May 3, 2001, in accordance with Standard Paragraph E at the end of this notice.

13. Southern California Edison Company

[Docket No. ER01-1785-000]

Take notice that on April 12, 2001, Southern California Edison Company (SCE) tendered for filing a Service Agreement for Wholesale Distribution Service under SCE's Wholesale Distribution Access Tariff and an Interconnection Facilities Agreement (Agreements) between SCE and Point Arguello Pipeline Company (PAPCO).

These Agreements specify the terms and conditions under which SCE will interconnect PAPCO's generating facility to its electrical system and provide Distribution Service for up to 16.5 MW of power produced by the generating facility.

Copies of this filing were served upon the Public Utilities Commission of the State of California and PAPCO.

Comment date: May 3, 2001, in accordance with Standard Paragraph E at the end of this notice.

14. Ameren Services Company

[Docket No. ER01-1786-000]

Take notice that on April 12, 2001, Ameren Services Company, as agent for Union Electric Company (d/b/a AmerenUE) and Central Illinois Public Service Company (d/b/a AmerenCIPS), tendered for filing changes to the Ameren Operating Companies' Open Access Transmission Tariff.

Copies of this filing were served on the Missouri Public Service Commission and the Illinois Commerce Commission.

Comment date: May 3, 2001, in accordance with Standard Paragraph E at the end of this notice.

15. Progress Energy, Inc. on behalf of Carolina Power & Light Company and Florida Power Corporation

[Docket No. ER01-1787-000]

Take notice that on April 12, 2001, Carolina Power & Light Company (CP&L) and Florida Power Corporation (FPC) tendered for filing Service Agreements for Short-Term Firm and Non-Firm Point-to-Point Transmission Service with Engage Energy America LLC. Service to this Eligible Customer will be in accordance with the terms and conditions of the Joint Open Access Transmission Tariff filed on behalf of CP&L and FPC.

CP&L and FPC are requesting an effective date of April 1, 2001 for the Service Agreements.

Copies of the filing were served upon the North Carolina Utilities Commission, the South Carolina Public Service Commission and the Florida Public Service Commission.

Comment date: May 3, 2001, in accordance with Standard Paragraph E at the end of this notice.

16. San Diego Gas & Electric Company

[Docket No. ER01-1797-000]

Take notice that on April 12, 2001, San Diego Gas & Electric Company (SDG&E) tendered for filing as service agreements to its FERC Electric Tariff, First Revised Volume No. 6, two interconnection agreements. Both agreements relate to the interconnection of a new generation plant to be owned by RAMCO, Inc. (RAMCO). The plant, with a capacity of approximately 49 megawatts, is being constructed on an expedited basis to meet potential shortfalls this summer in the Western states' electricity supplies. It will be located in San Diego County, California and is expected to being service on May 1, 2001.

Service Agreement No. 3 is an Expedited Interconnection Facilities Agreement dated April 12, 2001 between SDG&E and RAMCO, under which SDG&E will construct, operate, and maintain the proposed interconnection facilities. Service Agreement No. 4, the Interconnection Agreement between SDG&E and RAMCO dated April 12, 2001, establishes interconnection and operating responsibilities and associated communications procedures between the parties. SDG&E requests an effective date of April 12, 2001 for both agreements.

SDG&E states that copies of the filing have been served on RAMCO and on the California Public Utilities Commission.

Comment date: May 3, 2001, in accordance with Standard Paragraph E at the end of this notice.

17. West Texas Utilities Company

[Docket No. ER01-1798-000]

Take notice that on April 12, 2001, West Texas Utilities Company (WTU) tendered for filing a Restated Service Agreement (Restated Agreement) between WTU and Tex-La Electric Cooperative of Texas, Inc. (Tex-La). The Restated Agreement restates the August 2, 1993 Service Agreement No. 18 under WTU's FERC Tariff No. 2 between WTU and Tex-La. Pursuant to Order No. 614, WTU designates the Restated Agreement as First Revised Service Agreement No. 18 under WTU's FERC Tariff No. 1.

WTU seeks an effective date of June 15, 2000 for this filing and, accordingly, seeks waiver of the Commission's notice requirements. Copies of the filing have been served on Tex-La and on the Public Utility Commission of Texas.

Comment date: May 3, 2001, in accordance with Standard Paragraph E at the end of this notice.

18. Pierce Power LLC

[Docket No. ER01-1800-000]

Take notice that on April 12, 2001, Pierce Power LLC (Pierce Power) tendered for filing an application for waivers and blanket approvals under various regulations of the Commission and for an order accepting Pierce Power's FERC Electric Tariff and accompanying Code of Conduct to be effective on June 15, 2001, or upon the Commission's order herein, whichever occurs first.

Pierce Power intends to sell electrical capacity, energy, ancillary services, and replacement reserve service to wholesale customers at market-based rates. In transactions where Pierce Power sells electric energy, it proposes to make such sales on rates, terms and conditions to be mutually agreed to with the purchasing party. Pierce Power's proposed Electric Tariff also permits it to reassign transmission capacity.

Comment date: May 3, 2001, in accordance with Standard Paragraph E at the end of this notice.

19. Tucson Electric Power Company

[Docket No. ER01-1801-000]

Take notice that on April 12, 2001, Tucson Electric Power Company (Tucson) tendered for filing one (1) Service Agreement for long-term transactions under Tucson's market-based power sales tariff by and between Tucson and Phelps Dodge Energy Services.

Comment date: May 3, 2001, in accordance with Standard Paragraph E at the end of this notice.

20. Charles H. Linthicum

[Docket No. ID-3614-000]

Take notice that on April 11, 2001, Charles H. Linthicum tendered for filing with the Federal Energy Regulatory Commission (Commission), an application pursuant to Section 305(b) of the Federal Power Act to hold the following positions:

Director, Safe Harbor Water Power Corporation

Policy Committee Member, Malacha Hydro Limited Partnership

Comment date: May 11, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-10080 Filed 4-23-01; 8:45 am]

BILLING CODE 6717-01-M